Proclamation 9401 of February 29, 2016

National Colorectal Cancer Awareness Month, 2016

By the President of the United States of America

A Proclamation

Every year, more than 130,000 Americans are diagnosed with colorectal cancer, and it kills nearly 50,000—making it the second leading cause of cancer deaths in the United States. Colorectal cancer touches too many, and together, we must work to lift up those who have been affected by it and all who remain vulnerable to it. This month, as we remember the loved ones we have lost and lift up those who continue to fight colorectal cancer, we strive to save lives by raising awareness of this disease and encouraging everyone to take measures to prevent it.

Although age, obesity, and certain genetic mutations can increase risk of colorectal cancer, all Americans should be aware of its risk factors, which include being physically inactive, having an unhealthy diet, smoking cigarettes, and consuming alcohol in excess. People who have had inflammatory bowel disease or who have a family history of colorectal cancer may also be at particularly high risk. While people of all ages should consult a physician about their susceptibility, individuals between ages 50 and 75 are encouraged to get regular screenings. Symptoms such as blood in stool, persistent stomach pains, and inexplicable weight loss can be present, but sometimes no symptoms occur, which is why early detection and treatment are key for battling colorectal cancer. I urge all people to visit www.Cancer.gov for more information, including early warning signs and tips for prevention.

I am committed to combating all forms of cancer—including colorectal cancer—and to reaching a future when no family knows the pain cancer causes. Earlier this year, I announced a new initiative led by Vice President Joe Biden: a national effort to put the United States on a path to becoming the country that finally cures cancer once and for all—aiming within 5 years to make critical advances that may have otherwise taken more than a decade to achieve. And we have already proposed a $1 billion initiative to kick off this critical work. The Affordable Care Act now requires health care plans to cover certain recommended preventive services, including many screening tests for cancer, at no additional cost—an important provision that helps ensure more people can access critical tests. It also prohibits insurance companies from charging more for pre-existing conditions, including cancer. While work remains to be done to confront the challenges posed by colorectal cancer, we have made great progress in fighting it and informing people of its dangers.

All people deserve to lead long, happy, and healthy lives, and nobody should be robbed of that promise due to the devastating impacts of colorectal cancer. During National Colorectal Cancer Awareness Month, let us honor the legacy of those we have lost to this cancer by spreading awareness of it, uplifting all who live with it, and pledging our full talent, resources, and will to defeating it.

NOW, THEREFORE, I, BARACK OBAMA, President of the United States of America, by virtue of the authority vested in me by the Constitution and the laws of the United States, do hereby proclaim March 2016 as National Colorectal Cancer Awareness Month. I encourage all citizens, government agencies, private businesses, non-profit organizations, and other groups to join in activities that will increase awareness and prevention of colorectal cancer.

IN WITNESS WHEREOF, I have hereunto set my hand this twenty-ninth day of February, in the year of our Lord two thousand sixteen, and of the Independence of the United States of America the two hundred and fortieth.

[FR Doc. 2016-04871

Filed 3-2-16; 8:45 am]

Billing code 3295-F6-P